Title 3—

The President

Proclamation 8074 of October 30, 2006

National Adoption Month, 2006

By the President of the United States of America

A Proclamation

During National Adoption Month, we encourage the adoption of young people in need, and we honor the adoptive and foster families who have offered children a loving and supportive home.

The best of America is reflected in the many citizens who have adopted children as their own. Mothers and fathers are the most important influences in a child's life, and children with caring, involved parents can better realize the full promise of America. Parents help their children thrive by encouraging them to aim high, work hard, and make good choices that will lead to healthy, satisfying lives. On November 18, loving families across America will celebrate National Adoption Day by finalizing their adoptions of children from foster care. This day will also raise awareness of the many children still waiting to be adopted and encourage more Americans to choose adoption.

My Administration is committed to helping place children with caring families. Through the Collaboration to AdoptUsKids project at adoptuskids.org, we are working to provide guidance and support for parents considering adoption. We are also offering tax credits to ease the financial burden on adoptive families, and we are providing funding to help strengthen State adoption services through the Adoption Incentives Program and the Promoting Safe and Stable Families Program. Together, these efforts can help connect children with loving families and help provide greater hope and opportunity for America's children.

During National Adoption Month, we pay tribute to the parents who have opened their hearts and homes and helped provide love and stability for young people. By caring for the youngest members of our society, these families are helping our children grow into successful adults and building the future of our country.

NOW, THEREFORE, I, GEORGE W. BUSH, President of the United States of America, by virtue of the authority vested in me by the Constitution and laws of the United States, do hereby proclaim November 2006 as National Adoption Month. I call upon all Americans to observe this month with appropriate programs and activities to honor adoptive families and to participate in efforts to find permanent homes for waiting children.

IN WITNESS WHEREOF, I have hereunto set my hand this thirtieth day of October, in the year of our Lord two thousand six, and of the Independence of the United States of America the two hundred and thirty-first.

[FR Doc. 06-9052

Filed 11-1-06; 8:45 am]

Billing code 3195-01-P